DEPARTMENT OF DEFENSE

Department of the Army

Draft Environmental Impact Statement (DEIS) for the Design, Construction, and Operation of One or More Pilot Test Facilities for Assembled Chemical Weapon Destruction Technologies at One or More Sites

AGENCY: Program Manager (PM), Assembled Chemical Weapons Assessment (ACWA), DoD.

ACTION: Notice of Availability (NOA).

SUMMARY: This announces the availability of the PM ACWA DEIS which assesses the potential impacts of the design, construction, operation, and closure of one or more pilot-scale test facilities for an assembled chemical weapon destruction system at one or more chemical weapons stockpile sites. The DEIS examines the potential environmental impacts of the following alternatives, to include technologies that could be incorporated into a pilot-scale facility: (a) No action (continued storage until destruction of the stockpile); (b) chemical neutralization followed by biological treatment (c) chemical neutralization followed by supercritical water oxidation; (d) chemical neutralization followed by transpiring wall supercritical water oxidation and gas phase chemical reduction; and (e) electrochemical oxidation.

The chemical stockpile sites are Anniston Army Depot, Alabama; Pine Bluff Arsenal, Arkansas; Pueblo Chemical Depot, Colorado (neutralization followed by transpiring wall supercritical water oxidation, and electrochemical oxidation are not alternatives at Pueblo); and Blue Grass Army Depot, Kentucky. The PM ACWA pilot tests will not halt or delay the operation or construction of any baseline incineration facility currently in progress.

DATES: The public comment period for the DEIS will end 45 days after publication of the NOA in the Federal Register by the U.S. Environmental Protection Agency.

ADDRESSES: Written comments may be forwarded to Mr. Jon Ware, Assembled Chemical Weapons Assessment EIS, 9700 S. Cass Ave./Post Office Box 8369, Argonne, Illinois 60439-4871, through the ACWA website at http://www.pmacwa.org, by email to acwacomment@anl.gov or by fax to 630-252-4611.

FOR FURTHER INFORMATION CONTACT: Kimberly Collins at 888-482-4312 or via email at kimberly.collins@horne.com, or via mail at Horne Engineering, 2014 Tollgate Road, Suite 208, Bel Air, Maryland 21015.

SUPPLEMENTARY INFORMATION: This proposed action continues the process that began when Congress established the Assembled Chemical Weapons Assessment Program through passage of Public Law 104-208. With the National Defense Appropriations Act for Fiscal Year 1999, Congress directed the PM ACWA to plan for the pilot-scale testing of alternatives to baseline incineration for the destruction of assembled chemical weapons. The Department of Army published a Notice of Intent in the Federal Register (65 FR 20139-20140, April 14, 2000) which provides notice (pursuant to the National Environmental Policy Act and implementing regulations) it was preparing a DEIS for follow-on tests including design, construction and operation of one or more pilot test facilities for assembled chemical destruction technologies at one or more sites.

Assembled chemical weapons (munitions containing both chemical agents and explosives) are stored in the United States unitary chemical weapons stockpile. These weapons include cartridges, land mines, mortar rounds, projectiles, and rockets. Unitary agents include chemical blister agents (e.g., the mustard agents H, HD, and HT) and nerve agents (e.g., G (Sarin) and VX).

The PM ACWA demonstrated the technologies considered to be viable. However, Public Law 106-398 limited the technologies to be considered at Pueblo Chemical Depot to those demonstrated prior to May 1, 2000, by the PM ACWA. The sites considered were selected based on the availability of assembled chemical weapons at the time actual testing would begin.

Public meetings will be held in Alabama, Arkansas, Colorado, and Kentucky. The dates, times, and locations of these meetings will be provided at least 15 days in advance by public notices in the news media serving the regions where the meeting will be located. All public comments received will be considered and addressed in the final EIS.

Dated: May 4, 2001.
Raymond J. Fatz,
Deputy Assistant Secretary of the Army (Environment, Safety, and Occupational Health) OASA (I&E).

[FR Doc. 01-11704 Filed 5-8-01; 8:45 am]

BILLING CODE 3710-08-M